DEPARTMENT OF TRANSPORTATION

Federal Aviation Administration

14 CFR Part 71

[Airspace Docket No. 00-ANM-12]

Establishment of Class E Airspace, Heber City, UT

AGENCY: Federal Aviation Administration (FAA), DOT.

ACTION: Final rule.

SUMMARY: This action establishes the Heber City, UT, Class E airspace to accommodate airspace required for the establishment of a new Area Navigation (RNAV) Standard Instrument Approach Procedures (SIAP) to the Heber City Russ McDonald Field, Heber City, UT.

EFFECTIVE DATE: 0901 UTC, September 6, 2001.

FOR FURTHER INFORMATION CONTACT: Brian Durham, ANM-520.7, Federal Aviation Administration, Docket No. 00-ANM-12, 1601 Lind Avenue SW., Renton, Washington 98055-4056: telephone number: (425) 227-2527.

SUPPLEMENTARY INFORMATION:

History

On January 23, 2001, the FAA proposed to amend Title 14 Code of Federal Regulations, part 71 (14 CFR part 71) by establishing Class E airspace at Heber City, UT, in order to accommodate a new RNAV SIAP and Departure Procedure (DP) at Heber City Russ McDonald Field, Heber City, UT (66 FR 7435). This amendment provides Class E5 airspace at Heber City, UT, to meet current criteria standards associated with the SIAPs and DP. Interested parties were invited to participate in the rulemaking proceeding by submitting written comments on the proposal. No comments were received.

The Rule

This amendment to Title 14 Code of Federal Regulations, part 71 (14 CFR part 71) establishes Class E airspace at Heber City, UT, in order to accommodate a new SIAP and DP to the Heber City Russ McDonald Field, Heber City, UT. This amendment establishes Class E5 airspace at Heber City, UT, to meet current criteria standards associated with the RNAV SIAP and DP. The FAA establishes Class E airspace where necessary to contain aircraft transitioning between the terminal and en route environments. This rule is designed to provide for the safe and efficient use of the navigable airspace and to promote safe flight operations under Instrument Flight Rules (IFR) at the Heber City Russ McDonald Field and between the terminal and en route transition stages.

The area will be depicted on aeronautical charts for pilot reference. The coordinates for this airspace docket are based on North American Datum 83. Class E airspace areas extending upward from 700 feet or more above the surface of the earth, are published in Paragraph 6005, of FAA Order 7400.9H dated September 1, 2000, and effective September 16, 2000, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6005 Class E airspace areas extending upward from 700 feet or more above the surface of the earth.

* * * * *

ANM UT E5 Heber City, UT [NEW]

Heber City Muni-Russ McDonald Field, UT

(Lat. 40°28′55″N., long. 111°25′44″W.)

That airspace extending upward from 700 feet above the surface within the 5-mile radius of the Heber City Muni-Russ McDonald Field, and within 2 miles each side of the 010° bearing from the airport extending to 7.8 miles, and within 2 miles each side of the 160° bearing extending to 8.9 miles; and that airspace extending upward from 1,200 feet above the surface bounded by a line beginning at lat. 41°13′45″N., long. 111°24′20″W., to lat. 41°11′34″N., long. 111°09′28″W., to lat. 40°09′40″N., long. 111°15′42″W., to lat. 40°10′52″N., long. 111°34′57″W., to lat. 40°30′00″N., long. 111°34′57″W to origin, and excluding that airspace within Federal airways; the Salt Lake City, UT; and the Evanston, WY, Class E airspace areas.

* * * * *

Issued in Seattle, Washington, on June 14, 2001.
Dan A. Boyle,
Assistant Manager, Air Traffic Division, Northwest Mountain Region.

[FR Doc. 01-15610 Filed 6-20-01; 8:45 am]

BILLING CODE 4910-13-M